ENVIRONMENTAL PROTECTION AGENCY

[FRL-12350-01-R9]

Clean Air Act Operating Permit Program; Order on Petition for Objection to State Operating Permit for Ultramar Inc.

AGENCY: Environmental Protection Agency (EPA).

ACTION: Notice of final order on petition.

SUMMARY: The Environmental Protection Agency (EPA) Administrator signed an order dated October 4, 2024, denying a petition dated July 13, 2024, from Dr. Genghmun Eng. The petition requested that the EPA object to a Clean Air Act (CAA) title V operating permit renewal issued by the South Coast Air Quality Management District (SCAQMD) to Ultramar Inc. for its refinery located in Wilmington, Los Angeles County, California.

FOR FURTHER INFORMATION CONTACT: Nidia K. Trejo, EPA Region 9, (415) 972-3968, trejo.nidia@epa.gov. The final order and petition are available electronically at: https://www.epa.gov/title-v-operating-permits/title-v-petition-database.

SUPPLEMENTARY INFORMATION: The EPA received a petition from Dr. Genghmun Eng dated July 13, 2024, requesting that the EPA object to the issuance of operating permit renewal for Facility ID 800026, issued by SCAQMD to Ultramar Inc. in Wilmington, Los Angeles County, California. On October 4, 2024, the EPA Administrator issued an order denying the petition. The order itself explains the basis for the EPA's decision.

Sections 307(b) and 505(b)(2) of the CAA provide that a petitioner may request judicial review of those portions of an order that deny issues in a petition. Any petition for review shall be filed in the United States Court of Appeals for the appropriate circuit no later than January 7, 2025.

Dated: November 2, 2024.
Martha Guzman Aceves,
Regional Administrator, Region IX.

[FR Doc. 2024-25944 Filed 11-7-24; 8:45 am]

BILLING CODE 6560-50-P